SECURITIES AND EXCHANGE COMMISSION

[Release No. 34-47878]

Notice of Intention To Cancel Registrations of Certain Transfer Agents

May 15, 2003.

Notice is given that the Securities and Exchange Commission (“Commission”) intends to issue an order, pursuant to section 17A(c)(4)(B) of the Securities Exchange Act of 1934 (Exchange Act),¹ canceling the registrations of the transfer agents whose names appear in the attached Appendix.

¹ 15 U.S.C. 78q-1(c)(4)(B).

FOR FURTHER INFORMATION CONTACT: Jerry W. Carpenter, Assistant Director, or Lori R. Bucci, Special Counsel, at 202/942-4187, Division of Market Regulation, Securities and Exchange Commission, 450 Fifth Street, NW., Washington, DC 20549-1001.

Background

Section 17A(c)(4)(B) of the Exchange Act provides that if the Commission finds that any transfer agent registered with the Commission is no longer in existence or has ceased to do business as a transfer agent, the Commission shall by order cancel that transfer agent's registration. Accordingly, at any time after June 23, 2003, the Commission intends to issue an order canceling the registrations of any or all of the transfer agents listed in the Appendix.

The Commission has made efforts to locate and determine the status of each of the transfer agents listed in the Appendix. In some cases, the Commission was unable to locate the transfer agent, and in other cases, the Commission learned that the transfer agent was no longer in existence or had ceased doing business as a transfer agent. Based on the facts it has, the Commission believes that each of the transfer agents listed in the Appendix are no longer in existence or have ceased doing business as a transfer agent.

Any transfer agent listed in the Appendix that believes its registration should not be cancelled must notify the Commission in writing prior to June 23, 2003. Written notifications must be mailed to: Lori R. Bucci, Division of Market Regulation, Securities and Exchange Commission, 450 Fifth Street, NW., Washington, DC 20549-1001, or be sent by facsimile to Lori R. Bucci at (202) 824-5049.

For the Commission by the Division of Market Regulation, pursuant to delegated authority.²
² 17 CFR 200.30-3(a)(22).
J. Lynn Taylor,
Assistant Secretary.

Appendix
Registration number | Name
(84-5920) | The Axess Media Group, LTD
(84-5826) | Corey L. Lewis
(84-5847) | Financial Strategies, LLC
(84-1883) | ICOA Incorporated
(84-5756) | IDM Corporation
(84-5727) | Impact Administrative Services, Inc.
(84-1208) | MLH Depositary Inc
(84-5875) | NAVCAP Securities Inc.
(84-5647) | Penn Street Advisors, Inc.
(84-5834) | Reserve General Escrow Company
(84-682) | Swiss Chalet, Inc.
(84-191) | Texaco Inc.
(84-986) | The Troy Investment Fund
(84-1947) | Vermont Fund Advisors, Inc.

[FR Doc. 03-12807 Filed 5-21-03; 8:45 am]

BILLING CODE 8010-01-P